DEPARTMENT OF ENERGY

Federal Energy Regulatory Commission

[Docket No. RP00-363-000]

Natural Gas Pipeline Company of America; Notice of Proposed Changes in FERC Gas Tariff

July 6, 2000.

Take notice that on June 30, 2000, Natural Gas Pipeline Company of America (Natural) tendered for filing to be part of its FERC Gas Tariff, Sixth Revised Volume No. 1, the tariff sheets listed on Appendix A to the filing, to be effective August 1, 2000.

Natural states that the purpose of this filing is to implement a new Rate Schedule FFTS, under which Natural would provide a flexible firm transportation service. Conforming tariff changes have also been made in the General Terms and Conditions of the Tariff and in the pro forma service agreement.

Natural requests waiver of the Federal Energy Regulatory Commission's Regulations to the extent necessary to permit the tariff sheets submitted to become effective August 1, 2000.

Natural states that copies of the filing have been mailed to its customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17556 Filed 7-11-00; 8:45 am]

BILLING CODE 6717-01-M